DEPARTMENT OF HOMELAND SECURITY

Coast Guard

46 CFR Part 162

[Docket No. USCG-2004-18939]

RIN 1625-AA90

Pollution Prevention Equipment

Correction

In rule document E9-802 beginning on page 3364 in the issue of Friday, January 16, 2009 make the following correction:

§162.050-15 [Corrected]

On page 3384, in §162.050-15(f)(3)(iii), in the second line after the equation, “paragraph b(f)(1)” should read “paragraph (f)(1)”.

[FR Doc. Z9-802 Filed 2-6-09; 8:45 am]

BILLING CODE 1505-01-D